DEPARTMENT OF AGRICULTURE

Forest Service

Southwest Mississippi Resource Advisory Committee

AGENCY: Forest Service, USDA.

ACTION: Notice of meeting.

SUMMARY: The Southwest Mississippi Resource Advisory Committee will meet in Meadville, Mississippi. The committee is meeting as authorized under the Secure Rural Schools and Community Self-Determination Act (Pub. L. 110-343) and in compliance with the Federal Advisory Committee Act. The purpose is to hold the first meeting of the 2010 committee.

DATES: The meeting will be held on August 5, 2010, and will begin at 6 p.m.

ADDRESSES: The meeting will be held at the Franklin County Public Library, 106 First Street, Meadville, MS. Written comments should be sent to David Chabreck, Homochitto National Forest, 1200 Highway 184 East, Meadville, MS 39653. Comments may also be sent via e-mail to dochabreck@fs.fed.us, or via facsimile to 601-384-2172.

All comments, including names and addresses when provided, are placed in the record and are available for public inspection and copying. The public may inspect comments received at Homochitto National Forest, 1200 Highway 184 East, Meadville, MS 39653. Visitors are encouraged to call ahead to 601-384-5876 to facilitate entry into the building.

FOR FURTHER INFORMATION CONTACT: David Chabreck, Designated Federal Officer, USDA, Homochitto National Forest, 1200 Highway 184 East, Meadville, MS 39653; (601) 384-5876; E-mail dochabreck@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Introductions of all committee members, replacement members and Forest Service personnel. (2) Selection of a chairperson by the committee members. (3) Receive materials explaining the process for considering and recommending Title II projects; and (4) Public Comment. Persons who wish to bring related matters to the attention of the Committee may file written statements with the Committee staff before or after the meeting.

Dated: July 13, 2010.
David Chabreck,
Designated Federal Officer.

[FR Doc. 2010-17610 Filed 7-19-10; 8:45 am]

BILLING CODE 3410-11-P